DEPARTMENT OF COMMERCE

National Oceanic and Atmospheric Administration

RIN: 0648-XF64

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Limited Access Privilege (LAP) Program Workgroup and Committee, LAP Program Committee, a joint meeting of its Executive Committee and Finance Committee, Snapper Grouper Committee, Law Enforcement Advisory Panel, a joint meeting of its Habitat Committee and Ecosystem-Based Management Committee, Spiny Lobster Committee, Shrimp Committee, Allocation Committee, Standard Operations, Policy and Procedures (SOPPs) Committee, Scientific and Statistical Committee (SSC) Selection Committee, and a meeting of the full Council. In addition, the Council will also hold a public comment period on Amendment 15B to the Snapper Grouper Fishery Management Plan (FMP). Redstone Consulting Group will provide a presentation on Limited Access Privilege Programs.

DATES: The meetings will be held March 3-7, 2008. See SUPPLEMENTARY INFORMATION for specific dates and times.

ADDRESSES: The meetings will be held at the Jekyll Island Club Hotel, 371 Riverview Drive, Jekyll Island, GA, 31527; telephone: (1-800) 535-9547 or (912) 635-2600, fax: (912) 635-2818. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Joint LAP Program Workgroup and Committee Meeting: March 3, 2008, 1 p.m. until 6 p.m.

The LAP Program Workgroup will provide a presentation to the LAP Program Committee on its final report and recommendations regarding a Limited Access Privilege Program for the commercial snapper grouper fishery in the Council's area of jurisdiction.

2. Redstone Consulting Group Presentation on LAP Programs: March 3, 2008, 6:30 p.m. until 7:30 p.m.

The Redstone Consulting Group will provide a presentation on Limited Access Privilege Programs.

3. LAP Program Committee Meeting: March 4, 2008, 8 a.m. until 12 noon

The LAP Program Committee will discuss LAP Programs, possible actions, timing issues, and provide directions to staff.

4. Joint Executive and Finance Committees Meeting: March 4, 2008, 1:30 p.m. until 2:30 p.m.

The Executive and Finance Committees will meet to review the final Calendar Year (CY) Council budget, the CY 2008-2010 FMP/Amendment/Framework timelines and modify as appropriate. The Committees will also receive a report on the President's Fiscal Year 2009 budget and review and develop comments on H.R. Bill 4087 introduced by Congressman Jones from North Carolina.

5. Snapper Grouper Committee Meeting: March 4, 2008, 2:30 p.m. until 6:30 p.m. and March 5, 2008, 8 a.m. until 12 noon.

The Snapper Grouper Committee will review public hearing comments on Amendment 15B to the Snapper Grouper FMP and modify the amendment as necessary. The Committee will then approve a recommendation that the Council submit Amendment 15B to the Secretary of Commerce for review and approval. Amendment 15B includes actions to modify current recreational sale allowances, define allocations for snowy grouper and red porgy, implement a plan to monitor and assess bycatch, implement measures to minimize the impacts of incidental take on sea turtles and small tooth sawfish, modify commercial permit renewal and transferability requirements, and update management reference points for golden tilefish.

The Snapper Grouper Committee will also review Amendment 16 to the Snapper Grouper FMP, modify as appropriate, and approve the amendment for public hearings. Amendment 16 includes measures to end overfishing for gag grouper and vermilion snapper. The Committee will also review and discuss public scoping comments on Amendment 17 and provide directions to staff on options to be developed. Amendment 17 includes measures to respond to stock assessments for red snapper, greater amberjack, and mutton snapper, specify Annual Catch Limits for species in the snapper grouper fishery management unit currently undergoing overfishing, specify Accountability Measures as appropriate, extend the management unit through the Mid-Atlantic Council's area of jurisdiction, and other items. The Committee will also receive a report on a pre-closure survey of proposed Marine Protected Areas, and an update on spearfishing issues at Gray's Reef National Marine Sanctuary.

6. Law Enforcement Advisory Panel Meeting: March 4, 2008, 1 p.m. until 6 p.m. (Concurrent Sessions)

The Law Enforcement Advisory Panel (AP) will meet to discuss law enforcement's role in the development of a LAP Program. The AP will also discuss and comment on the following issues: snapper grouper amendment issues, spiny lobster issues and a future amendment, open water aquaculture, circle hook enforcement, special management areas, and the sale of recreationally caught fish.

7. Joint Habitat and Ecosystem-based Management Committee Meeting: March 5, 2008, 1:30 p.m. until 5:30 p.m.

The Habitat and Ecosystem-based Management Committees will receive a presentation on Vessel Monitoring Systems and review input received from the Habitat, Coral, Deepwater Shrimp and Golden Crab Advisory Panels regarding the Fishery Ecosystem Plan (FEP) Comprehensive Amendment, modify as needed, and approve the amendment for public hearings. The Committee will also review the FEP and approve for public hearing. In addition, the Committee will review and comment on proposed critical habitat for staghorn and elkhorn corals, review and approve the Council's Energy Policy, receive a report on deepwater coral research, and discuss habitat issues as necessary.

8. Spiny Lobster Committee Meeting: March 6, 2008, 8 a.m. until 10 a.m.

The Spiny Lobster Committee will review the scoping comments on the Generic Import Amendment to the Spiny Lobster FMP. The amendment addresses regulations regarding the importation of spiny lobster. The Committee will also review the status of changes to lobster regulations by the State of Florida, and plan a timeline for an amendment to address Annual Catch Limits for spiny lobster.

9. Shrimp Committee Meeting: March 6, 2008, 10 a.m. until 12 noon

The Shrimp Committee will review scoping comments regarding Amendment 7 to the Shrimp FMP and provide directions to staff regarding options to be included in the amendment. Amendment 7 addresses landings requirements currently in place for South Atlantic endorsements for rock shrimp permits.

10. Allocation Committee Meeting: March 6, 2008, 1:30 p.m. until 3:30 p.m.

The Allocation Committee will review public scoping comments and provide direction to staff regarding options to include in a Comprehensive Allocation Amendment. The amendment will address allocations between recreational and commercial sectors and possible allocations within those sectors.

11. SOPPs Committee Meeting: March 6, 2008, 3:30 p.m. until 4:30 p.m.

The SOPPs Committee will receive an update on the status of Secretarial review of the Council's SOPPs and develop changes as necessary.

12. SSC Selection Committee Meeting: March 6, 2008, 4:30 p.m. until 5:30 p.m. (Closed Session)

The SSC Selection Committee will meet in closed session and discuss any guidance from the National Marine Fisheries Service (NMFS) affecting the SSC resulting from the reauthorized Magnuson-Stevens Act amendments. The Committee will also review applicants and provide recommendations for appointments as appropriate.

13. Personnel Committee Meeting: March 6, 2008, 5:30 p.m. until 6:30 p.m. (Closed Session)

The Personnel Committee will meet in closed session to discuss personnel issues.

14. Council Session: March 7, 2008, 8 a.m. until 12:30 p.m.

From 8 a.m. - 8:15 a.m., the Council will call the meeting to order, adopt the agenda, and approve the December 2007 meeting minutes.

From 8:15 a.m. - 8:45 a.m., the Council will receive a report from the Snapper Grouper Committee, take public comment on Amendment 15B, and approve Amendment 15B for submission to the Secretary of Commerce for review and approval. The Council will also approve Amendment 16 for public hearings and take actions regarding Committee recommendations as appropriate.

Note: The Council will take final public comment on Amendment 15B to the Snapper Grouper Fishery Management Plan at 8:15 a.m. on March 7, 2008.

From 8:45 a.m. - 9 a.m., the Council will receive a report from the LAP Program Committee and take action as appropriate.

From 9 a.m. - 9:15 a.m., the Council will receive a report from the Joint Habitat and Ecosystem-Based Management Committees. The Council will approve the FEP and the FEP Comprehensive Amendment for public hearings. The Council will consider other Committee recommendations and take action as appropriate.

From 9:15 a.m. - 9:30 a.m., the Council will receive a report from the Joint Executive and Finance Committees and take action as appropriate.

From 9:30 a.m. - 9:45 a.m., the Council will receive a report from the Spiny Lobster Committee take action as appropriate.

From 9:45 a.m. - 10 a.m., the Council will receive a report from the Shrimp Committee and take action as appropriate.

From 10 a.m. - 10:15 a.m., the Council will receive a report from the Allocation Committee and take action as appropriate.

From 10:15 a.m. - 10:30 a.m., the Council will receive a report from the SOPPs Committee and take action as appropriate.

From 10:30 a.m. - 10:45 a.m., the Council will receive a report from the SSC Selection Committee and take action as appropriate.

From 10:45 - 12:30 p.m., the Council will receive a report regarding the Council Coordinating Committee Meeting, receive status reports from NOAA Fisheries' Southeast Regional Office, NOAA Fisheries' Southeast Fisheries Science Center, agency and liaison reports, review Experimental Fishing Permit applications as necessary, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by February 29, 2008.

Dated: February 12, 2008.
Tracey L. Thompson,
Acting Director, Office of Sustainable Fisheries, National Marine Fisheries Service.

[FR Doc. E8-2888 Filed 2-14-08; 8:45 am]

BILLING CODE 3510-22-S